DEPARTMENT OF AGRICULTURE

Food and Nutrition Service

Summer Electronic Benefits Transfer for Children Program; 2025 Benefit Levels

AGENCY: Food and Nutrition Service, USDA.

ACTION: Notice.

SUMMARY: This notice informs the public of the annual adjustments to the levels of monthly benefits in the Summer Electronic Benefits Transfer for Children (Summer EBT) Program. These adjustments reflect changes in the Thrifty Food Plan (TFP), as required under the Richard B. Russell National School Lunch Act.

DATES: These benefit levels are in effect January 1, 2025, through December 31, 2025.

FOR FURTHER INFORMATION CONTACT: Anne Fiala, Director, Summer EBT Program Division, Child Nutrition Programs, Food and Nutrition Service, United States Department of Agriculture, 1320 Braddock Place, Suite 401, Alexandria, Virginia 22314, (703) 305-2590.

SUPPLEMENTARY INFORMATION: The Summer Electronic Benefits Transfer for Children Program is listed in the Catalog of Federal Domestic Assistance under Number 10.646 in accordance with the Paperwork Reduction Act of 1995, 44 U.S.C. 3501-3520, no new recordkeeping or reporting requirements have been included that are subject to approval from the Office of Management and Budget.

This notice is not a rule as defined by the Regulatory Flexibility Act, 5 U.S.C. 601-612, and thus is exempt from the provisions of that Act.

Summary

Section 13A of the Richard B. Russell National School Lunch Act, 42 U.S.C. 1762 established the value of Summer EBT benefits in 2024 at $40 per child for each month of the summer and requires the Secretary to annually adjust the Summer EBT benefit amounts beginning in calendar year 2025, to reflect changes in the cost of food as measured by TFP rounded down to the nearest dollar increment.

USDA adjusted the Summer EBT benefit levels to reflect the differences between the costs of providing meals and supplements in the outlying areas (Hawaii, Alaska, Guam, American Samoa, Puerto Rico, the Virgin Islands of the United States, and the Commonwealth of the Northern Mariana Islands) and the 48 states and the District of Columbia, as consistent with law and other nutrition assistance programs. The benefit levels for the outlying areas were established in 2024 and are also annually adjusted. This notice provides the 2025 Summer EBT monthly and total summer benefit levels. The law requires the adjusted level to be rounded down to the nearest dollar amount. The total summer benefit level is the rounded down monthly level multiplied by three.

Calculation of Benefit Levels

Contiguous States and Indian Tribal Organizations: The adjustment is based on the monthly Thrifty Food Plan cost for a reference family of four. The change for the 12-month period ending on November 30th of the preceding calendar year is used to adjust the benefit level from the previous year. The November 2023 to November 2024 percent change is 1.55 percent, which results in a monthly benefit level of $40 (rounded down from $40.62). This adjustment results in no change in monthly benefit levels for 2025 as monthly benefits. The benefits for 2025 remain at $40 monthly and $120 total.

Alaska: The adjustments are based on the Alaska monthly Thrifty Food Plan cost for a reference family of four. The change for the 12-month period ending on November 30th of the preceding calendar year is used to adjust the benefit levels for the three Alaska geographic areas from the previous year. The November 2023 to November 2024 percent change is 1.56 percent. This percent change is applied to the Urban, Rural I, and Rural II benefit levels from the prior year and rounded down to the nearest dollar increment. The adjusted 2025 monthly benefit for Urban Alaska is $52 (rounded down from $52.51 and for Rural 1 Alaska is $66; (rounded down from $66.96); these are unchanged from 2024 as are the total summer benefits ($156 and $198, respectively). The monthly benefit for Rural 2 Alaska increases slightly from $80 in 2024 to $81 (rounded down from $81.49) while total summer benefits increase to $243 in 2025 from $240 in 2024).

Hawaii: The adjustment is based on the Hawaii monthly Thrifty Food Plan cost for a reference family of four. The change for the 12-month period ending on November 30th of the preceding calendar year is used to adjust the benefit level from the previous year. The November 2023 to November 2024 percent change is 1.46 percent. The 2025 monthly benefit of $59 (rounded down from $59.71) and total summer benefits of $177 are unchanged from 2024.

U.S. Territories (Guam, American Samoa, Puerto Rico, the Virgin Islands of the United States, and the Commonwealth of the Northern Mariana Islands): Monthly TFP costs for Guam and the U.S. Virgin Islands are not currently produced and Puerto Rico, American Samoa, and the Commonwealth of the Northern Mariana Islands do not participate in SNAP. Therefore, the adjustments are based on the same increase in monthly Thrifty Food Plan cost for the contiguous states for a reference family of four. The change for the 12-month period ending on November 30th of the preceding calendar year is used to adjust the benefit level from the previous year. The November 2023 to November 2024 percent change is 1.55 percent. The monthly 2025 benefits of $59 (rounded down from $59.87) and $177 for total are unchanged from 2024.

The 2025 benefit levels are presented below, along with the 2024 benefits.

Table of 2025 Benefit Levels
| 2024 Monthly | 2025 Monthly | 2024 Summer | 2025 Summer
48 States and the District of Columbia | $40 | $40 | $120 | $120
Alaska:
Urban | 52 | 52 | 156 | 156
Rural 1 | 66 | 66 | 198 | 198
Rural 2 | 80 | 81 | 240 | 243
Hawaii | 59 | 59 | 177 | 177
Guam, American Samoa, Puerto Rico, the Virgin Islands of the United States, and the Commonwealth of the Northern Mariana Islands | 59 | 59 | 177 | 177

Tameka Owens,
Acting Administrator, Food and Nutrition Service.

[FR Doc. 2025-03760 Filed 3-7-25; 8:45 am]

BILLING CODE 3410-30-P